FEDERAL COMMUNICATIONS COMMISSION

Notice of Public Information Collection(s) Being Reviewed by the Federal Communications Commission, Comments Requested

March 4, 2009.

SUMMARY: As part of its continuing effort to reduce paperwork burden and as required by the Paperwork Reduction Act (PRA) of 1995 (44 U.S.C. 3501-3520), the Federal Communications Commission invites the general public and other Federal agencies to comment on the following information collection(s). Comments are requested concerning (a) Whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology. An agency may not conduct or sponsor a collection of information unless it displays a currently valid OMB control number. No person shall be subject to any penalty for failing to comply with a collection of information subject to the Paperwork Reduction Act that does not display a valid OMB control number.

DATES: Written PRA comments should be submitted on or before May 11, 2009. If you anticipate that you will be submitting comments, but find it difficult to do so within the period of time allowed by this notice, you should advise the contact listed below as soon as possible.

ADDRESSES: Interested parties may submit all PRA comments by e-mail or U.S. post mail. To submit your comments by e-mail, send them to PRA@fcc.gov and/or to Cathy.Williams@fcc.gov. To submit your comments by U.S. mail, mark them to the attention of Cathy Williams, Federal Communications Commission, Room 1-C823, 445 12th Street, SW., Washington, DC 20554.

FOR FURTHER INFORMATION CONTACT: For additional information about the information collection(s), contact Cathy Williams at (202) 418-2918 or send an e-mail to PRA@fcc.gov and/or Cathy.Williams@fcc.gov.

SUPPLEMENTARY INFORMATION: OMB Control Number: 3060-0029.

Title: Application for TV Broadcast Station License, Form FCC 302-TV; Application for DTV Broadcast Station License, FCC Form 302-DTV; Application for Construction Permit for Reserved Channel Noncommercial Educational Broadcast Station, FCC Form 340; Application for Authority to Construct or Make Changes in an FM Translator or FM Booster Station, FCC Form 349; FCC 47 CFR 73.626.

Form Number: FCC Forms 302-TV, 302-DTV, 340 and 349.

Type of Review: Extension of a currently approved collection.

Respondents: Business or other for-profit entities; not-for-profit institutions.

Number of Respondents and Responses: 4,425 respondents; 6,425 responses.

Estimated Time per Response: 1 hour to 4 hours.

Frequency of Response: Recordkeeping requirement; On occasion reporting requirement; third party disclosure requirement.

Total Annual Burden: 14,450 hours.

Total Annual Cost: $21,869,625.

Obligation to Respond: Required to obtain or retain benefits. The statutory authority is contained in sections 154(i), 303 and 308 of the Communications Act of 1934, as amended.

Nature and Extent of Confidentiality: There is no need for confidentiality with this collection of information.

Privacy Impact Assessment: No impact(s).

Needs and Uses: On November 3, 2008, the Commission adopted a Report and Order in the Matter of Digital Television Distributed Transmission System Technologies; MB Docket No. 05-312, FCC 08-256 (released Nov. 7, 2008). In this Report and Order, the Commission adopts rules for the use of distributed transmission system (“DTS”) technologies in the digital television (“DTV”) service. See 47 CFR 73.626. DTS technology allows stations to employ multiple synchronized transmitters spread around a station's service area, rather than the current single-transmitter approach. Each transmitter would broadcast the station's DTV signal on the same channel, similar to analog TV booster stations but more efficiently. Due to the synchronization of the transmitted signals, DTV receivers should be able to treat the multiple signals as reflections or “ghosts” and use “adaptive equalizer” circuitry to cancel or combine them to produce a single signal.

Congress has mandated that after June 12, 2009, full-power television broadcast stations must transmit only in digital signals, and may no longer transmit analog signals. Full power DTV stations will use DTS technologies to meet their statutory responsibilities and begin operations on their final, post-transition (digital) channels by their construction deadlines. DTS will provide DTV broadcasters with an important tool for providing optimum signal coverage for their viewers. For some broadcasters that are changing channels or transmitting locations for their digital service, DTS may offer the best option for continuing to provide over-the-air service to current analog viewers, as well as for reaching viewers that have historically been unable to receive a good signal due to terrain or other interference.

FCC Form 340 is being revised to accommodate the filing of DTS applications.

Federal Communications Commission.
Marlene H. Dortch,
Secretary.

[FR Doc. E9-5243 Filed 3-11-09; 8:45 am]

BILLING CODE 6712-01-P